FEDERAL LABOR RELATIONS AUTHORITY

Membership of the Federal Labor Relations Authority's Senior Executive Service Performance Review Board

AGENCY: Federal Labor Relations Authority.

ACTION: Notice.

SUMMARY: Notice is hereby given of the members of the Performance Review Board.

DATE: September 2, 2003.

FOR FURTHER INFORMATION CONTACT: Dan Ellerman, Director; Human Resources Division; Federal Labor Relations Authority (FLRA); 1400 K Street, NW., Washington, DC 20424-0001; (202) 218-7963.

SUPPLEMENTARY INFORMATION: Section 4314(c)(1) through (5) of title 5, U.S.C., requires that each agency establish, in accordance with the regulations prescribed by the Office of Personnel Management, one or more Performance Review Boards. The Boards shall review and evaluate the initial appraisal of a senior executive. The following persons will serve on the FLRA's FY 2003 Performance Review Board: Barbara Reed Bradford, Deputy Director, U.S. Trade and Development Agency; Doris Brown, Human Resources Officer, International Trade Commission, Department of Commerce; Jill M. Crumpacker, Director, Policy, Planning & Performance Management, Federal Labor Relations Authority; David A. Dobbs, Deputy Assistant Inspector General for Aviation, Office of the Inspector General, Department of Transportation; and Joe Schimansky, Executive Director, Federal Service Impasses Panel, Federal Labor Relations Authority.

Authority: 5 U.S.C. 4134(c)(4).

Dated: August 26, 2003.
Dan Ellerman,
Director, Human Resources Division.

[FR Doc. 03-22238 Filed 8-29-03; 8:45 am]

BILLING CODE 6727-01-U